DEPARTMENT OF ENERGY

Federal Energy Regulatory Commission

[Docket No. IC09-731-000]

Commission Information Collection Activities, Proposed Collection; Comment Request

July 31, 2009.

AGENCY: Federal Energy Regulatory Commission.

ACTION: Notice of proposed information collection and request for comments.

SUMMARY: In compliance with the requirements of Section 3506(c)(2)(A) of the Paperwork Reduction Act of 1995, 44 U.S.C. 3506(c)(2)(A) (2006), the Federal Energy Regulatory Commission (FERC or Commission) is soliciting public comment on the proposed information collection described below.

DATES: Comments on the proposed collection of information are due 60 days after publication in the Federal Register.

ADDRESSES: Comments may be filed either electronically (e-Filed) or in paper format, and should refer to Docket No. IC09-731-000. Documents must be prepared in an acceptable filing format and in compliance with Commission submission guidelines at http://www.ferc.gov/help/submission-guide.asp.

Comments may be eFiled. The eFiling option under the Documents & Filings tab on the Commission's home Web page (http://www.ferc.gov) directs users to the eFiling Web page. First-time users should follow the eRegister instructions on the eFiling Web page to establish a user name and password before eFiling. Filers will receive an e-mailed confirmation of their eFiled comments.

Commentors filing electronically should not make a paper filing. Commentors that are not able to file electronically must send an original and 14 paper copies of the filing to: Federal Energy Regulatory Commission, Secretary of the Commission, 888 First Street, NE., Washington, DC 20426.

Parties interested in receiving automatic notification of activity in this docket may do so through eSubscription. The eSubscription option under the Documents & Filings tab on the Commission's home Web page directs users to the eSubscription Web page. Users submit the docket numbers of the filings they wish to track and will subsequently receive an e-mail notification each time a filing is made under the submitted docket numbers. First-time users will need to establish a user name and password before eSubscribing.

Filed comments and FERC issuances may be viewed, printed and downloaded remotely from the Commission's Web site. The eLibrary link found at the top of most of the Commission's Web pages directs users to FERC's eLibrary. From the eLibrary Web page, choose General Search, and in the Docket Number space provided, enter IC09-731, then click the Submit button at the bottom of the page. For help with any of the Commission's electronic submission or retrieval systems, contact FERC Online Support via e-mail at: ferconlinesupport@ferc.gov, or telephone toll-free: (866) 208-3676 (TTY (202) 502-8659).

FOR FURTHER INFORMATION CONTACT: Michael Miller may be reached by telephone at (202) 502-8415, by fax at (202) 273-0873, and by e-mail at michael.miller@ferc.gov.

SUPPLEMENTARY INFORMATION: In order to meet the requirements of Section 1252(e)(3) of the Energy Policy Act of 2005, the Commission proposes to conduct a survey with a response deadline of April 30, 2010, and publish a report on the results in 2010. The proposed survey is necessary to update the 2006 and 2008 advanced metering and demand response information collected on previous Commission surveys. A copy of the survey, instructions, and glossary are attached and part of this document, but they are not being printed in the Federal Register. The Attachments are available on the FERC's eLibrary (http://www.ferc.gov/docs-filing/elibrary.asp) by searching Docket No. IC09-731-000, and through the FERC Public Reference Room. Interested parties may also request paper copies of the survey, instructions, and glossary by contacting Michael Miller by telephone at (202) 502-8415, by fax at (202) 273-0873, or by e-mail at michael.miller@ferc.gov.

Section 1252(e)(3) of the Energy Policy Act of 2005,¹ requires the Commission to prepare and publish an annual report, by appropriate region, that assesses demand response resources, including those available from all consumer classes. Specifically, EPAct 2005 Section 1252(e)(3) requires that the Commission identify and review:

¹ Pub. L. 109-58, § 1252(e)(3), 119 Stat. 594, 966 (2005) (EPAct 2005).

(A) Saturation and penetration rate of advanced meters and communications technologies, devices and systems;

(B) Existing demand response programs and time-based rate programs;

(C) The annual resource contribution of demand resources;

(D) The potential for demand response as a quantifiable, reliable resource for regional planning purposes;

(E) Steps taken to ensure that, in regional transmission planning and operations, demand resources are provided equitable treatment as a quantifiable, reliable resource relative to the resource obligations of any load-serving entity, transmission provider, or transmitting party; and

(F) Regulatory barriers to improved customer participation in demand response, peak reduction and critical period pricing programs.

In 2006 and 2008, the Commission designed and used Office of Management and Budget (OMB) approved collections FERC-727, Demand Response and Time Based Rate Programs Survey (OMB Control No. 1902-0214), and FERC-728, Advanced Metering Survey (OMB Control No. 1902-0213), to collect and convey to Congress the requested demand response and advanced metering information. The collection proposed herein will update the information filed previously in the FERC-727 and 728 surveys. The Commission investigated alternatives, including using data from the North American Electric Reliability Corporation (NERC) and the Energy Information Administration (EIA), to fielding and collecting data using a FERC designed survey. However, as explained below, the data cannot be obtained by the Commission in time to complete the 2010 report to Congress.

In addition to creating the demand response and advanced metering requirements, EPAct 2005 enacted section 215 of the Federal Power Act (FPA) titled “Electric Reliability,” authorizing the Commission to approve and enforce reliability standards for the reliability of the interstate grid.² Section 215 of the FPA authorized FERC to certify an Electric Reliability Organization (ERO) to develop the reliability standards for the Nation's bulk power system, subject to Commission review and approval. NERC has been certified by the Commission as the ERO for the United States.³ Among many other things, NERC has begun to collect demand response data on dispatchable and non-dispatchable resources that it needs to conduct its reliability work. The Demand Response Data Task Force at NERC is in the process of developing a Demand Response Availability Data System (DADS) to collect demand response program information. NERC is planning a limited trial run of DADS in 2010 followed by a full-scale version, with disaggregated information on utility/load serving entity demand response programs, in 2011. NERC will not be collecting the 2009 data that the Commission plans to collect in its proposed survey. Moreover, NERC proposes to collect detailed demand response data on a quarterly basis for the year 2010, beginning in June 2010 and plans to publish the annual data for 2010 by May 1, 2011 Thus, the Commission will not be able to use the 2010 data that NERC proposes to collect for the FERC's 2010 report to Congress.

² Pub. L. 109-58, § 1211(a), 119 Stat. 594, 941 (codified at 16 U.S.C. 824o (2006)).

³ North American Electric Reliability Corp., 116 FERC ¶ 61,062, order on reh'g & compliance, 117 FERC ¶ 61,126 (2006), appeal docketed sub nom. Alcoa, Inc. v. FERC, No. 06-1426 (D.C. Cir. Dec. 29, 2006).

The Energy Information Administration (EIA) collects aggregated information on energy efficiency and load management as well as advanced metering data in its EIA-861, “Annual Electric Power Industry Report.” The data collected in this survey does not identify existing demand response programs or time-based rate programs, but it does support the Commission's advanced metering data needs. Unfortunately, the finalized advanced metering data for 2009 will not be available until the fourth quarter of 2010 under EIA's proposed schedule. Therefore, the EIA data will not be available to the Commission in time to use in its 2010 report to Congress.

Therefore, because the alternatives will not provide data in a timely manner for the 2010 report, the Commission proposes to conduct a survey (attached) with a response deadline of April 30, 2010. This survey has been designed to be consistent with the NERC's data collection such that, in future years, the Commission may be able to use the NERC data when it becomes available, phase-out the FERC demand response survey and still comply with EPAct 2005 Section 1252(e)(3).

FERC staff has designed a survey that will impose minimal burden on respondents by providing respondents with an easy-to-complete, fillable form that will include such user friendly features as pre-populated fields and drop-down menus, make use of the data that is becoming available from reliable sources, and provide it with the information necessary to draft and file the report that is required by Congress. It is a streamlined and simplified version of past surveys and can be electronically filed. A paper version of the survey will be available for those who are unable to file electronically.

The Commission is proposing to collect the demand response and advanced metering information via a voluntary survey from the nation's entities that serve wholesale and retail customers. The information will be used to draft and file the report that is required by Congress. Industry cooperation is important for us to obtain as accurate and up-to-date information as possible to respond to Congress, as well as to provide information to states and other market participants. We, therefore, strongly encourage all potential survey respondents to complete the survey.

In summary, the Commission seeks public comment on the proposed survey (FERC-731, “Demand Response/Time-Based Rate Programs and Advanced Metering”) and the related estimated burden. FERC also requests OMB approval to administer the survey and to collect the information on demand response and advanced metering.

Action: The Commission is requesting comments on the proposed survey and related burden estimate. The Commission is also requesting OMB approval for the collection of information on demand response and advanced metering.

Burden Statement: The proposed survey targets respondents who directly serve wholesale and retail customers. The Commission estimates the public reporting burden for this information collection will be 13,600 hours and will affect 3,400 respondents. The burden for the collection is:

| Number of respondents annually | Number of responses per respondent | Average burden hours per response | Total annual burden hours
| (1) | (2) | (3) | (1) × (2) × (3)
FERC-731 Demand Response/Time-Based Rate Programs and Advanced Metering Survey | 3,400 | 1 | 4 | 13,600

The estimated total cost to respondents is $838,865.00 [13,600 hours divided by 2,080 hours ⁴ per year, times $128,297 ⁵ equals $838,865.00]. The cost per respondent is $246.73.

⁴ Number of hours an employee works each year.

⁵ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The respondent's cost estimate is based on salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Problems in measuring data elements collected; (2) regulatory or other barriers to gathering the information; (3) terms and definitions in the survey and glossary; (4) other sources of information on advanced metering and demand response programs; (5) the accuracy of the agency's burden estimate of the proposed collection of information, including the validity of the methodology and assumptions used; (6) ways to enhance the quality, utility and clarity of the information to be collected; and, (7) ways to minimize respondent information collection burden.

Nathaniel J. Davis, Sr.,
Deputy Secretary.

Note: The Attachments (survey, instructions, and glossary) will not be printed in the Federal Register. The Attachments are available on the FERC's eLibrary (http://www.ferc.gov/docs-filing/elibrary.asp) by searching Docket No. IC09-731-000, and through the FERC Public Reference Room.

[FR Doc. E9-18914 Filed 8-6-09; 8:45 am]

BILLING CODE 6717-01-P